DEPARTMENT OF TRANSPORTATION

Federal Aviation Administration

14 CFR Part 39

[Docket No. FAA-2014-0465; Directorate Identifier 2013-SW-044-AD]

RIN 2120-AA64

Airworthiness Directives; Agusta S.p.A. Helicopters (Type Certificate Currently Held by AgustaWestland S.p.A.) (Agusta)

AGENCY: Federal Aviation Administration (FAA), DOT.

ACTION: Notice of proposed rulemaking (NPRM).

SUMMARY: We propose to adopt a new airworthiness directive (AD) for Agusta AB139 and AW139 helicopters to require replacing certain single-braided flexible hydraulic hoses with double-braided flexible hydraulic hoses. This proposed AD is prompted by occurrences of leaking flexible hydraulic hoses. The proposed actions are intended to prevent loss of hydraulic power and subsequent loss of helicopter control.

DATES: We must receive comments on this proposed AD by September 15, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt. For service information identified in this proposed AD, contact Agusta Westland, Customer Support & Services, Via Per Tornavento 15, 21019 Somma Lombardo (VA) Italy, ATTN: Giovanni Cecchelli; telephone 39- 0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0177, dated August 8, 2013, to correct an unsafe condition for Agusta Model AB139 and AW139 helicopters. EASA advises that leaking hydraulic system flexible hoses have been reported on in-service helicopters. An investigation indicated that single braided flexible hydraulic hoses, which are part of the original design for Model AB139 and AW139 helicopters, may not be strong enough to cope with the hydraulic system pressure over long periods. If not corrected, this condition could lead to other hydraulic system leaks, possibly resulting in loss of hydraulic power and reduced control of the helicopter, EASA advises. EASA consequently requires that the flexible single-braided hydraulic hoses be replaced with flexible double-braided hydraulic hoses.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information

AgustaWestland Bolletino Tecnico No. 139-307, dated June 19, 2013 (BT), calls for replacing certain single braided flexible hydraulic hoses with double braided flexible hydraulic hoses for Model AB139 and AW139 helicopters. The BT states that the replacement should be conducted within 300 flight hours or six months from receipt of the BT, whichever comes first, to prevent in-service leaks.

Proposed AD Requirements

This proposed AD would require, within 300 hours time-in-service (TIS), replacing the flexible single-braided hydraulic hose with a flexible double-braided hydraulic hose. The AD would also prohibit installing the single-braided flexible hydraulic hose on any helicopter.

Differences Between This Proposed AD and the EASA AD

The EASA AD requires replacing the flexible single-braided hydraulic hoses within 300 flight hours or 6 months, whichever occurs first. This proposed AD requires that the flexible single-braided hydraulic hoses be replaced within 300 hours TIS. TIS and flight hours are synonymous.

Costs of Compliance

We estimate that this proposed AD would affect 115 helicopters of U.S. Registry and that labor costs average $85 per work-hour. Based on these estimates, we expect that replacing the flexible single-braided hydraulic hoses with flexible double-braided hydraulic flexible hoses would require 6 work-hours for a labor cost of $510. Parts would cost $3,089 for a total cost of $3,599 per helicopter, and $413,885 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Agusta S.p.A. (Type certificate currently held by AgustaWestland S.p.A.) (Agusta) Helicopters: Docket No. FAA-2014-0465; Directorate Identifier 2013-SW-044-AD.

(a) Applicability

This AD applies to Agusta Model AB139 and AW139 helicopters with a flexible hydraulic hose, part number (P/N) A494AE2E00E0670X, A494AE3E00E0424X, A494AE3E00E0530X, A494AE3E00E0570X, A494AE3E00E0580X, A494AE3E00E0620X, A494AE3E00E0930X, A494AE6E14E0348X, or A494AE6E21E0330X, installed, certificated in any category.

(b) Unsafe Condition

This AD defines the unsafe condition as a leak in a hydraulic system flexible hose. This condition could result in loss of hydraulic power and subsequent loss of helicopter control.

(c) Comments Due Date

We must receive comments by September 15, 2014.

(d) Compliance

You are responsible for performing each action required by this AD within the specified compliance time unless it has already been accomplished prior to that time.

(e) Required Actions

(1) Within 300 hours time-in-service, replace each flexible hydraulic hose with a double braided flexible hydraulic hose in the accordance with the Compliance Instructions, Part I, paragraphs 5 through 7; Part II, paragraphs 5 through 7; Part III, paragraphs 5 through 6; Part IV, paragraphs 5 through 6; and Part V, paragraphs 5 through 7; as applicable for your helicopter serial number and configuration, of AgustaWestland Bolletino Tecnico No. 139-307, dated June 19, 2013.

(2) Do not install a flexible hydraulic hose, P/N A494AE2E00E0670X, A494AE3E00E0424X, A494AE3E00E0530X, A494AE3E00E0570X, A494AE3E00E0580X, A494AE3E00E0620X, A494AE3E00E0930X, A494AE6E14E0348X, or A494AE6E21E0330X, on any helicopter.

(f) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in the European Aviation Safety Agency (EASA) AD No. 2013-0177, dated August 8, 2013. You may view the EASA AD on the Internet at http://www.regulations.gov in Docket No. FAA-2014-0465.

(h) Subject

Joint Aircraft Service Component (JASC) Code: 2910, Hydraulic System, Main.

Issued in Fort Worth, Texas, on July 8, 2014.
Kim Smith,
Directorate Manager, Rotorcraft Directorate, Aircraft Certification Service.

[FR Doc. 2014-16681 Filed 7-15-14; 8:45 am]

BILLING CODE 4910-13-P